DEPARTMENT OF HEALTH AND HUMAN SERVICES

National Institutes of Health

National Cancer Institute; Cancellation of Meeting

Notice is hereby given of the cancellation of the National Cancer Institute Clinical Trials and Translational Research Advisory Committee, July 14, 2010, 8 a.m. to July 14, 2010, 4 p.m., National Institutes of Health, Building 31, 31 Center Drive, Bethesda, MD 20892 which was published in the Federal Register on May 19, 2010, 75FR28028.

The meeting is cancelled due to scheduling conflicts.

Dated: June 7, 2010.
Jennifer Spaeth,
Director, Office of Federal Advisory Committee Policy.

[FR Doc. 2010-14192 Filed 6-11-10; 8:45 am]

BILLING CODE 4140-01-P